Executive Order 14348 of September 5, 2025

Strengthening Efforts To Protect U.S. Nationals From Wrongful Detention Abroad

By the authority vested in me as President by the Constitution and the laws of the United States of America, including the Robert Levinson Hostage Recovery and Hostage-Taking Accountability Act (22 U.S.C. 1741 et seq.) (Levinson Act), it is hereby ordered:

Section 1. Purpose. The United States must strengthen efforts to protect U.S. nationals from wrongful detention abroad. The United States Government is committed to using every tool available to curb this coercive tactic used by foreign adversaries and must hold such adversaries to account. No American should fear being taken as a political pawn by rogue states. Wrongful detentions are an affront to the rule of law and aim to undermine our leadership on the world stage. The United States will not tolerate these attacks on our sovereignty and U.S. nationals.

Sec. 2. Designation. The Secretary of State may designate any foreign country the government of which directly engages in or provides support for the wrongful detention of a U.S. national as a State Sponsor of Wrongful Detention based on one or more of the following criteria:

(a) the wrongful detention of a U.S. national occurs in the foreign country;

(b) the government of the foreign country has failed to release a wrongfully detained U.S. national after having been notified by the United States that the detention has been determined wrongful by the Secretary of State; or

(c) actions taken by the government of the foreign country indicate, based on the totality of the circumstances:

(i) that the government is responsible for, complicit in, or materially supports the wrongful detention of a U.S. national; or

(ii) a pattern in which the government is responsible for, complicit in, or materially supports the unjust or unlawful detention of third country nationals in which cases the United States has a national interest, using criteria similar to those used by the Department of State in wrongful detention determinations.

Sec. 3. Responses. Upon designation of a foreign country as a State Sponsor of Wrongful Detention under section 2 of this order, the Secretary of State shall review existing authorities to respond to and deter the actions of a government of a foreign country as outlined in section 2 of this order and take steps to implement the following actions, as appropriate and to the extent consistent with law, including the Levinson Act, including:

(a) imposing sanctions available under the International Emergency Economic Powers Act (50 U.S.C. 1701 et seq.);

(b) making designations under section 7031(c) of the Department of State, Foreign Operations, and Related Programs Appropriations Act, 2024 (division F of Public Law 118-47; 8 U.S.C. 1182 note), as carried forward by the Full-Year Continuing Appropriations Act, 2025 (division A of Public Law 119-4), or similar provisions in subsequent acts;

(c) applying inadmissibility available under the Immigration and Nationality Act (8 U.S.C. 1101 et seq.) and, as appropriate, coordinating with the Department of Homeland Security on the enforcement thereof;

(d) imposing geographic travel restrictions prohibiting the use of a United States passport for travel to or through the designated country under 22 U.S.C. 211a, Executive Order 11295 of August 5, 1966 (Rules Governing the Granting, Issuing, and Verifying of United States Passports), and 22 CFR 51.63(a)(3);

(e) restricting assistance provided to the government of the country under the Foreign Assistance Act of 1961 (22 U.S.C. 2151 et seq.) or any other Federal law; and

(f) restricting the export of certain goods to the country under the Arms Export Control Act (22 U.S.C. 2751 et seq.), the Export Control Reform Act of 2018 (50 U.S.C. 4801 et seq.), or any other Federal law.

Sec. 4. Termination of Designation. The Secretary of State may terminate the designation of a foreign country under section 2 of this order based on:

(a) a determination by the Secretary of State that the government of the foreign country:

(i) has released the U.S. nationals wrongfully detained within the territory of the foreign country;

(ii) has demonstrated changes in leadership or policies with respect to wrongful detention; and

(iii) has provided credible assurances that the government of the foreign country will not engage or be complicit in or support acts described in section 2 of this order; or

(b) the discretion and direction of the President.

Sec. 5. Definitions. For the purposes of this order:

(a) the term “government” includes the government of a country; any political subdivision, agency, or instrumentality thereof; any person owned or controlled, directly or indirectly, by the foregoing; and any person who has acted or purported to act directly or indirectly for or on behalf of, any of the foregoing;

(b) the term “person” refers to an individual or entity;

(c) the term “entity” refers to a government or instrumentality of such government, partnership, association, trust, joint venture, corporation, group, subgroup, or other organization;

(d) the term “wrongful detention” refers to the detention of a U.S. national the Secretary of State has determined to be unlawful or wrongful pursuant to the Levinson Act; and

(e) the term “U.S. national” has the same meaning as “United States national” given in 22 U.S.C. 1741e(2).

Sec. 6. Other Detaining Entities. To the extent permitted by applicable law, the provisions of this order referring to a foreign government shall also apply to an entity exercising control over most or all of the territory of a country, regardless of whether such entity has been recognized as the government of such country.

Sec. 7. Rule of Construction. This order shall not be construed to impair or otherwise affect any lawfully authorized investigative, protective, information security, or intelligence activity of an officer, agent, or employee of the United States, or any person undertaking such activity or activities pursuant to a contract with the United States. Further, nothing in this order shall be construed to imply that every U.S. national detained in a foreign country designated under section 2 of this order should be or has been determined to be wrongfully detained under the Levinson Act.

Sec. 8. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of State.

THE WHITE HOUSE,

September 5, 2025.

[FR Doc. 2025-17509

Filed 9-9-25; 11:15 am]

Billing code 4710-05-P